NATIONAL AERONAUTICS AND SPACE ADMINISTRATION

[Notice: (19-070)]

Name of Information Collection: NASA Software Release Request System

AGENCY: National Aeronautics and Space Administration (NASA).

ACTION: Notice of information collection—new information collection.

SUMMARY: The National Aeronautics and Space Administration, as part of its continuing effort to reduce paperwork and respondent burden, invites the general public and other Federal agencies to take this opportunity to comment on proposed and/or continuing information collections.

DATES: Comments are due by December 23, 2019.

ADDRESSES: All comments should be addressed to Claire Little, National Aeronautics and Space Administration, 300 E Street SW, Washington, DC 20546-0001.

FOR FURTHER INFORMATION CONTACT: Requests for additional information or copies of the information collection instrument(s) and instructions should be directed to Claire Little, NASA Clearance Officer, NASA Headquarters, 300 E Street SW, JF0000, Washington, DC 20546 or email claire.a.little@nasa.gov.

SUPPLEMENTARY INFORMATION:

I. Abstract

NASA Software Release Request System (SRRS) is a workflow tool that allows Agency Software Release Authorities (SRAs) to easily develop and route software release documents, such as the Software Release Request Authorization (SRRA) and Section 508 Compliance Matrix in an automated fashion. SRAs have the added ability to perform parallel routing, including the use of time-based email reminders, tracking and reporting progress on the processing of the software release requests so they can effectively manage this process at their respective centers. Software owners/developers can submit the Software Release Requests or view their submitted Software Release Requests that may need their attention.

II. Methods of Collection

Web based—only accessible via NASA's internal network (e.g., on site or remotely via a NASA issued VPN)

III. Data

Title: NASA Software Release Request System.

OMB Number: 2700-xxxx.

Type of review: New Information Collection.

Affected Public: NASA Funded Contractors and Government Employees.

Average Expected Annual Number of Activities: On average 126 software packages are released per year.

Average number of Respondents per Activity: At least one respondent will complete the form per activity (software release) which will result in approximately 126 respondents.

Annual Responses: 126.

Frequency of Responses: As needed.

Average minutes per Response: 240 minutes.

Burden Hours: 504.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Cheryl Parker,
Federal Liaison Officer.

[FR Doc. 2019-23020 Filed 10-21-19; 8:45 am]

BILLING CODE 7510-13-P